DEPARTMENT OF TRANSPORTATION

Federal Highway Administration

Environmental Impact Statements: National Summary of Rescinded Notices of Intent

AGENCY: Federal Highway Administration (FHWA), DOT.

ACTION: Notice.

SUMMARY: The FHWA is issuing this notice to advise the public that 11 States have rescinded Notices of Intent (NOI) to prepare 19 Environmental Impact Statements (EISs) for proposed highway projects. FHWA Division Offices, in consultation with the State Departments of Transportation (State DOT), determined that 15 of these projects were no longer viable projects and have formally cancelled the projects. No resources will be expended on these projects; the environmental review process has been terminated. Four projects in four States have been reduced in scope and now meet the criteria for an Environmental Assessment (EA) rather than an EIS, or a revised NOI will be issued restarting the EIS process.

FOR FURTHER INFORMATION CONTACT: Lamar Smith, Office of Project Development and Environmental Review, (202) 366-8994; Janet Myers, Office of the Chief Counsel, (202) 366-2019; Federal Highway Administration, 1200 New Jersey Avenue, SE., Washington, DC 20590.

SUPPLEMENTARY INFORMATION:

Electronic Access

An electronic copy of this document may be downloaded by accessing the Federal Register's home page at: http://www.archives.gov and the Government Printing Office's Web page at http://www.gpoaccess.gov/nara.

Background

The FHWA, as lead Federal agency under the National Environmental Policy Act and in furtherance of its oversight and stewardship responsibilities under the Federal-aid Highway Program, has requested that its Division Offices review, with the State DOTs, the status of all EISs and place those projects that are not actively progressing in a timely manner in an inactive project status. The FHWA maintains lists of active and inactive projects on its Web site at http://www.environment.fhwa.dot.gov/. The FHWA has determined that inactive projects that are no longer a priority or that lack resources should be rescinded with a Federal Register notice notifying the public that project activity has been terminated. As always, FHWA encourages State DOTs to work with their FHWA Division Office to determine when it is most prudent to initiate an EIS in order to best balance available resources as well as the expectations of the public.

The FHWA is issuing this notice to advise the public that 11 States (Alabama, California, Florida, North Carolina, Oregon, Pennsylvania, Tennessee, Texas, Utah, Virginia, and Washington) have recently rescinded previously issued NOIs for 19 EISs for proposed highway projects. A listing of these projects, general location, original NOI date of publication in the Federal Register, and the date that the NOI was formally rescinded by notice published in the Federal Register, is provided below. The FHWA Division Offices, in consultation with the State DOTs, determined that 15 of these projects were no longer viable projects and have formally cancelled those projects. Four projects in California, North Carolina, Texas, and Washington have been reduced in scope and now meet the criteria for performing an EA rather than an EIS, or a revised NOI will be issued restarting the environmental review process. The South Stockton Six-Lane Project in Joaquin County, California, and the NE Novelty Hill project in King County, Washington, have been reduced in scope and will undergo analysis as EAs. The Mid-Currituck Sound Bridge Project in Currituck and Dare Counties, North Carolina, issued a notice on June 3, 2008, rescinding the original July 6, 1995, NOI as well as the January 1998 Draft EIS due to project changes including the adaptation of the project by the North Carolina Turnpike Authority. A new NOI for this project is expected. The South Padre Island Second Access Project in Cameron County, Texas, issued a revised NOI to rescind the original July 11, 2003, NOI and start the environmental review process again with an April 23, 2008, NOI.

State | Project name—location | NOI date | Rescinded date
AL | West Mobile Loop—Mobile County | 8/28/2002 | 5/7/2008
AL | Birmingham Northern Beltline Extension—St. Clair County | 8/2/2006 | 4/7/22008
CA | South Stockton Six-Lane Project—Joaquin County | 1/29/2002 | 3/13/2008
FL | Suncoast Parkway 2—Hernando and Citrus Counties | 6/11/2002 | 3/11/2008
FL | Upper Manatee River Road—Manatee County | 1/21/2004 | 3/14/2008
NC | Mid-Currituck Sound Bridge Project—Currituck and Dare Counties | 7/6/1995 | 6/3/2008
OR | Astoria Bypass—Clatsop County | 9/28/1994 | 4/7/2008
PA | Ligonier Truck Route—Westmoreland County | 1/29/1993 | 2/20/2008
TN | Appalachian Development Highway System Corridor K—Polk County | 10/28/1999 | 5/21/2008
TX | South Padre Island Second Access Project—Cameron County | 7/11/2003 | 4/23/2008
TX | Bolivar Bridge—Galveston County | 2/10/2006 | 1/30/2008
TX | SH 122 Roadway between SH 6 and SH99—Fort Bend County | 9/16/2002 | 3/14/2008
UT | I-15 North Corridor—Salt Lake City to Kaysville | 1/22/1997 | 4/10/2008
VA | Outer Connector—Stafford and Spotsylvania Counties | 6/1/1995 | 5/22/2008
VA | I-77/I-81 Improvement Project—Wythe County | 5/10/2001 | 5/22/2008
VA | Interstate 66 Multimodal Transportation and Environmental Study—Fairfax and Prince William Counties | 1/11/2002 | 5/22/2008
VA | Route 29 South Bypass Improvement Project—near Lynchburg | 3/4/2002 | 5/22/2008
VA | Spotsylvania Parkway—Spotsylvania County | 11/15/2002 | 5/22/2008
WA | NE Novelty Hill—King County | 1/18/2001 | 4/2/2008

(Catalog of Federal Domestic Assistance Program Number 20.205, Highway Planning and Construction. The regulations implementing Executive Order 12372 regarding intergovernmental consultation on Federal programs and activities apply to this program.)

Issued on: June 30, 2008.
James D. Ray,
Acting Federal Highway Administrator.

[FR Doc. E8-15476 Filed 7-7-08; 8:45 am]

BILLING CODE 4910-22-P